NUCLEAR REGULATORY COMMISSION

[Docket No. 030-04532]

Consideration of Amendment Request to Decommission Site at the U.S. Department of the Army Facility in Ft. Detrick, MD and Opportunity to Request a Hearing

I. Introduction

The U.S. Nuclear Regulatory Commission (NRC) is considering an amendment request to terminate the U.S. Department of the Army's (Army) Byproduct Material License No. 19-01151-02, authorizing it to release its facilities in Fort Detrick, Maryland, for unrestricted use. The license authorizes the Army to store and dispose of radioactive waste from the tenants of Fort Detrick, Frederick, Maryland. The license was originally issued on April 21, 1959, and the current license, Amendment No. 26, expires on December 31, 2007. The Army has submitted a decommissioning plan covering the facilities to be released.

II. Opportunity for a Hearing

The NRC hereby provides notice that this is a proceeding on an application for an amendment of a license falling within the scope of subpart L, “Informal Hearing Procedures for Adjudications in Materials and Operator Licensing Proceedings” of NRC's rules and practice for domestic licensing proceedings in 10 CFR part 2. Pursuant to § 2.1205(a), any person whose interest may be affected by this proceeding may file a request for a hearing in accordance with § 2.1205(d). A request for a hearing must be filed within 30 days of the publication of this Federal Register notice.

The request for a hearing must be filed with the Office of the secretary, either:

(1) By delivery to the Rulemaking and Adjudications Staff of the Office of the Secretary of the Commission at One White Flint North, 11555 Rockville Pike, Rockville, MD 20852; or

(2) By mail or telegram addressed to the Secretary, U.S. Nuclear Regulatory Commission, Washington, DC 20555, Attention: Rulemaking and Adjudications Staff. Because of continuing disruptions in the delivery of mail to United States Government offices, it is requested that requests for hearing also be transmitted to the Secretary of the Commission either by means of facsimile transmission to (301) 415-1101, or by email to hearingdocket@nrc.gov.

In accordance with 10 CFR 2.1205(f), each request for a hearing must also be served, by delivering it personally or by mail, to:

(1) The applicant, the U.S. Department of the Army, Headquarters, U.S. Army Garrison, 810 Schreider Street, Fort Detrick, Maryland 21702; and,

(2) The NRC staff, by delivery to the General Counsel, One White Flint North, 11555 Rockville Pike, Rockville, MD 20852, or by mail addressed to the Office of the General Counsel, U.S. Nuclear Regulatory Commission, Washington, DC 20555. Because of continuing disruptions in the delivery of mail to United States Government offices, it is requested that requests for hearing be also transmitted to the Office of the General Counsel, either by means of facsimile transmission to (301) 415-3725, or by email to OGCMailCenter@nrc.gov.

In addition to meeting other applicable requirements of 10 CFR part 2 of the NRC's regulations, a request for a hearing filed by a person other than an applicant must describe in detail:

(1) The interest of the requestor;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

III. Further Information

The application for the license amendment and related documents are available for inspection at NRC's Public Electronic Reading Room at http://www.nrc.gov/reading-rm/adams.html. These documents are also available for inspection and copying for a fee at the Region I Office, 475 Allendale Road, King of Prussia, PA 19406, and include:

Department of the Army Application for Termination of License No. 19-01151-02 dated October 21, 2002 (ADAM's accession No. ML023030361);

U.S. NRC request for additional information regarding Department of the Army Application for Termination of License No. 19-01151-02 dated November 15, 2002 (ADAM's accession No. ML023220722);

Letter dated December 12, 2002, providing additional information including revised decommissioning plan (ADAM's accession No. ML023500461);

Letter dated February 7, 2003, providing additional information (ADAM's accession No. ML030440512);

Letter dated March 12, 2003, including the Landfill Sludge Disposal Radiological Assessment (ADAM's accession No. ML030840097).

Any questions with respect to this action, should be referred to John R. McGrath, Division of Nuclear Materials Safety, U.S. Nuclear Regulatory Commission, Region I, 475 Allendale Road, King of Prussia, Pennsylvania 19406; telephone (610) 337-5069 or e-mail jrm@nrc.gov.

Dated in King of Prussia, Pennsylvania, this 22nd day of April, 2003.
For the Nuclear Regulatory Commission.
John D. Kinneman,
Chief, Nuclear Materials Safety Branch, Division of Nuclear Materials Safety, Region I.

[FR Doc. 03-10609 Filed 4-29-03; 8:45 am]

BILLING CODE 7590-01-P